DEPARTMENT OF TRANSPORTATION

Federal Aviation Administration

14 CFR Parts 61, 91, and 141

[Docket No. FAA-2006-26661; Amendment Nos. 61-124A, 91-309A, and 141-12A]

RIN 2120-AI86

Pilot, Flight Instructor, and Pilot School Certification; Correction

AGENCY: Federal Aviation Administration (FAA), DOT.

ACTION: Final rule; correction.

SUMMARY: The Federal Aviation Administration (FAA) is making several corrections to its “Pilot, Flight Instructor, and Pilot School Certification” final rule published in the Federal Register on August 21, 2009. The FAA corrections include standardizing certain part 61 time period durations from “60 days” to now read “2 calendar months.” We are also correcting an omission and errors to the prerequisite eligibility requirements for use of flight simulators. Additionally, we are correcting the duration of a student pilot certificate to 60 calendar months for a student pilot seeking a sport pilot certificate. Finally, we are correcting a sentence in the preamble to conform with the final rule regarding the use of flight training devices.

DATES: These corrections are effective on October 20, 2009.

FOR FURTHER INFORMATION CONTACT: John D. Lynch, Certification and General Aviation Operations Branch, AFS-810, General Aviation and Commercial Division, Flight Standards Service, Federal Aviation Administration, 800 Independence Avenue, SW., Washington, DC 20591; telephone (202) 267-3844; e-mail to john.d.lynch@faa.gov.

For legal interpretative questions about this final rule, contact: Michael Chase, AGC-240, Office of Chief Counsel, Regulations Division, Federal Aviation Administration, 800 Independence Avenue, SW., Washington, DC 20591; telephone (202) 267-3110; e-mail to michael.chase@faa.gov.

SUPPLEMENTARY INFORMATION:

Background

The FAA published a final rule in the Federal Register, entitled “Pilot, Flight Instructor, and Pilot School Certification” on August 21, 2009 (74 FR 42500). That final rule made revisions to the training, qualification, certification, and operating rules for pilots, flight instructors, ground instructors, and pilot schools in part 61, part 91, and part 141. The FAA's intention was to update and clarify certain training and qualification rules for pilots, flight instructors, ground instructors, and pilot schools ensuring a better understanding of those rules relating to aircraft operations in the National Airspace System (NAS). However, the published final rule contained some inadvertent errors that we are now correcting.

In the amendatory instructions to § 61.3, we stated that we were revising paragraph (c)(2)(xii). However, paragraph (c)(2)(xii) is a new subparagraph in § 61.3. We are correcting the amendatory instruction to state that we are adding the new paragraph.

We revised § 61.39(a)(6)(i) to change the time period from “60 days” to read “2 calendar months.” Since the publication of the final rule, the FAA has received numerous inquiries about this difference where § 61.39(a)(6)(i) reads “2 calendar months” and other sections reference “60 days.” This conforming change should have been in the published final rule. For these reasons, we are now correcting §§ 61.99, 61.109, 61.129, and 61.313 to revise the references to “60 days” to read “2 calendar months.” We are also adding clarifying language to these sections that the flight training must be conducted with an authorized instructor, which is the intent of § 61.39(a)(6)(1) and the definition of “flight training” in § 61.1. This correction will parallel §§ 61.99, 61.109, 61.129, and 61.313 with the new § 61.39(a)(6)(i), as originally intended.

In the preamble to the final rule, we stated: “The requirement that a minimum of a Level 5 flight training device be used if a flight training device is used for the practical test conforms with existing FAA policy.” (Id. at 42522.) This sentence is not correct. The sentence should read: “The requirement that a minimum of a Level 5 flight training device be used if a flight simulator is used for any portion of the practical test conforms with existing FAA policy.” This corrected sentence now parallels § 61.64(b)(4), (d)(4), and (f)(4).

In the final rule, we intended to consolidate and clarify the uses of flight simulators and flight training devices from § 61.63(e), (f), and (g) and § 61.157(g), (h), and (i) into a new § 61.64 without substantive changes to the uses of or prerequisite eligibility requirements to flight simulators and flight training devices. However, the language used in § 61.64(a)(1)(iii), (c)(1)(iii), and (e)(1)(iii) requires the use of a qualified and approved Level C flight simulator if a flight simulator is used for “any portion of the practical test.” This change from the previous requirement in § 61.63 and § 61.157 was not intended. We are correcting § 61.64(a)(1)(iii), (c)(1)(iii), and (e)(1)(iii) to require the use of a qualified and approved Level C flight simulator if a flight simulator is used for the entire practical test, as previously required.

Additionally, when we established § 61.64(a)(2) and § 61.64(a)(3), we inadvertently omitted one of the prerequisite eligibility requirements from old § 61.63(e)(4)(ii)(C) and § 61.157(g)(3)(ii)(C). We are correcting § 61.64(a)(2) and § 61.64(a)(3) to add the previously available prerequisite option for pilots who have logged “at least 2,000 hours of flight time, of which 500 hours is in turbine-powered airplanes of the same class of airplane for which the type rating is sought.”

In the final rule, we inadvertently omitted the clarifying phrase “as appropriate” in § 61.64(a)(4). To prevent any confusion as to the intent of the rule, we are adding the clarifying phase “as appropriate” in § 61.64(a)(4). This section applies when the applicant does not meet the prerequisite eligibility requirement for either a turbojet airplane or a turbo-propeller type rating.

We are making a formatting revision to the rule text in § 61.64(a)(4)(i), (c)(3)(i), and (e)(3)(i) by replacing the period at the end of the paragraph and replace it with semicolon and adding the word “or”. We are also modifying the text in § 61.64(a)(4)(ii), (c)(3)(ii), and (e)(3)(ii). These changes will clarify that the rule still provides for partial use of the aircraft for performing the preflight inspection, normal takeoff, normal instrument landing system approach, missed approach, and normal landing tasks, or the applicant will receive the supervised operating experience.

We are also making a minor correction to § 61.19(b)(3). Section 61.19(b)(3) provides that for student pilots seeking a glider or balloon rating that the student pilot certificate does not expire until 60 calendar months after the month of the date issued, regardless of the person's age. Because a sport pilot certificate holder is not required to hold a medical certificate, we are including student pilots seeking a sport pilot certificate in this rule.

We are also making a further clarification to § 61.157(f)(2)(ii) and (iii). The purpose of this correction is to clarify that an Aircrew Program Designee or Training Center Evaluator may be authorized to conduct competency and/or proficiency checks required under part 121, part 135, or subpart K of part 91.

Corrections

In the FR Document E9-19353 that appeared in the Federal Register on Friday, August 21, 2009, make the following corrections:

A. Correction to the Preamble

1. On page 42522, third column, fifth complete paragraph, revise the first sentence to read, “The requirement that a minimum of a Level 5 flight training device be used if a flight simulator is used for any portion of the practical test conforms with existing FAA policy.”

B. Corrections to the Regulatory Text

§ 61.3 [Corrected]

1. On page 42546, third column, revise amendatory instruction 4 to read as follows:

4. Amend § 61.3 by revising paragraphs (a) introductory text, (a)(1), (a)(2)(i), (b) introductory text, (b)(1), (c)(1), (c)(2)(ii), (c)(2)(iii), (c)(2)(v) introductory text, (c)(2)(xi), (f)(1)(i), (f)(2)(i), (f)(2)(ii), (g)(1)(i), (g)(2)(i), and (g)(2)(ii) and by adding a new paragraph (c)(2)(xii) to read as follows:

2. On page 42547, second column, in the amendment to § 61.19, revise paragraph (b)(3) to read as follows:

§ 61.19 Duration of pilot and instructor certificates.

* * * * *

(b) * * *

(3) For student pilots seeking a glider rating, balloon rating, or a sport pilot certificate, the student pilot certificate does not expire until 60 calendar months after the month of the date issued, regardless of the person's age.

* * * * *

3. On page 42553, first and second columns, in the amendment to § 61.64;

A. Revise paragraph (a)(1)(iii);

B. Remove the word “or” after the semicolon in paragraph (a)(2)(iii);

C. Remove the period after paragraph (a)(2)(iv) and add “; or” in its place;

D. Add paragraph (a)(2)(v);

E. Remove the word “or” after the semicolon in paragraph (a)(3)(iii);

F. Remove the period after paragraph (a)(3)(iv) and add “; or” in its place;

G. Add paragraph (a)(3)(v);

H. Amend paragraph (a)(4) introductory text by adding the phase “as appropriate” after the phrase “of this section”;

I. Remove the period after paragraph (a)(4)(i) and add “; or” in its place;

J. Revise paragraph (a)(4)(ii);

K. Remove the period after paragraph (c)(3)(i) and add “; or” in its place;

L. Revise paragraph (c)(3)(ii);

M. Remove the period after paragraph (e)(3)(i) and add “; or” in its place;

N. Revise paragraph (e)(3)(ii);

O. Revise paragraph (c)(1)(iii); and

P. Revise paragraph (e)(1)(iii).

The corrections read as follows:

§ 61.64 Use of a flight simulator and flight training device.

(a) * * *

(1) * * *

(iii) At a minimum, must be qualified and approved as a Level C flight simulator if the applicant performs the entire practical test in a flight simulator; and

* * * * *

(2) * * *

(v) Have logged at least 2,000 hours of flight time, of which 500 hours were in turbine-powered airplanes of the same class of airplane for which the type rating is sought.

(3) * * *

(v) Have logged at least 2,000 hours of flight time, of which 500 hours were in turbine-powered airplanes of the same class of airplane for which the type rating is sought.

(4) * * *

(ii) The applicant's pilot certificate will be issued with a limitation that states:

“The [name the category, class, and type of airplane rating (if a type rating is applicable)] is subject to additional pilot in command limitations,” and the applicant is restricted from serving as pilot in command in that category, class, and type of airplane rating (if a type rating is applicable).

* * * * *

(c) * * *

(1) * * *

(iii) At a minimum, must be qualified and approved as a Level C flight simulator if the applicant performs the entire practical test in a flight simulator; and

* * * * *

(3) * * *

(ii) The applicant's pilot certificate will be issued with a limitation that states: “The [name the helicopter class and type of helicopter rating (if a type rating is applicable)] is subject to additional pilot in command limitations,” and the applicant is restricted from serving as pilot in command in that helicopter class and type of helicopter rating (if a type rating is applicable).

* * * * *

(e) * * *

(1) * * *

(iii) At a minimum, must be qualified and approved as a Level C flight simulator if the applicant performs the entire practical test in a flight simulator; and

* * * * *

(3) * * *

(ii) The applicant's pilot certificate will be issued with a limitation that states: “The [name of the category and powered-lift rating (if a type rating is applicable)] is subject to additional pilot in command limitations,” and the applicant is restricted from serving as pilot in command in that category and type of powered-lift rating (if a type rating is applicable).

* * * * *

4. On page 42558, first column, add new instruction 29a with an amendment to § 61.99 to read as follows:

29a. Amend § 61.99 by revising paragraph (a)(2) to read as follows:

§ 61.99 Aeronautical experience.

(a) * * *

(2) Three hours of flight training with an authorized instructor in the aircraft for the rating sought in preparation for the practical test within the preceding 2 calendar months from the month of the test.

* * * * *

5. On page 42558, second column, revise amendatory instruction 32 and its amendments to § 61.109 to read as follows:

32. Amend § 61.109 by revising paragraphs (a)(4), (a)(5)(ii), (b)(4), (b)(5)(ii), (c)(3), (c)(4)(ii), (d)(3), (d)(4)(ii), (e)(4), (e)(5)(ii), (f)(1)(i), (f)(2)(ii), (g)(3), (h)(1)(i), (h)(2)(i), (i)(3), and (j)(3) to read as follows:

§ 61.109 Aeronautical experience.

(a) * * *

(4) 3 hours of flight training with an authorized instructor in a single-engine airplane in preparation for the practical test, which must have been performed within the preceding 2 calendar months from the month of the test; and

(5) * * *

(ii) One solo cross country flight of 150 nautical miles total distance, with full-stop landings at three points, and one segment of the flight consisting of a straight-line distance of more than 50 nautical miles between the takeoff and landing locations; and

* * * * *

(b) * * *

(4) 3 hours of flight training with an authorized instructor in a multiengine airplane in preparation for the practical test, which must have been performed within the preceding 2 calendar months from the month of the test; and

(5) * * *

(ii) One solo cross country flight of 150 nautical miles total distance, with full-stop landings at three points, and one segment of the flight consisting of a straight-line distance of more than 50 nautical miles between the takeoff and landing locations; and

* * * * *

(c) * * *

(3) 3 hours of flight training with an authorized instructor in a helicopter in preparation for the practical test, which must have been performed within the preceding 2 calendar months from the month of the test; and

(4) * * *

(ii) One solo cross country flight of 100 nautical miles total distance, with landings at three points, and one segment of the flight being a straight-line distance of more than 25 nautical miles between the takeoff and landing locations; and

* * * * *

(d) * * *

(3) 3 hours of flight training with an authorized instructor in a gyroplane in preparation for the practical test, which must have been performed within the preceding 2 calendar months from the month of the test; and

(4) * * *

(ii) One solo cross country flight of 100 nautical miles total distance, with landings at three points, and one segment of the flight being a straight-line distance of more than 25 nautical miles between the takeoff and landing locations; and

* * * * *

(e) * * *

(4) 3 hours of flight training with an authorized instructor in a powered-lift in preparation for the practical test, which must have been performed within the preceding 2 calendar months from the month of the test; and

(5) * * *

(ii) One solo cross country flight of 150 nautical miles total distance, with full-stop landings at three points, and one segment of the flight consisting of a straight-line distance of more than 50 nautical miles between the takeoff and landing locations; and

* * * * *

(f) * * *

(1) * * *

(i) 20 flights in a glider in the areas of operations listed in § 61.107(b)(6) of this part, including at least 3 training flights with an authorized instructor in a glider in preparation for the practical test that must have been performed within the preceding 2 calendar months from the month of the test; and

* * * * *

(2) * * *

(ii) 3 training flights with an authorized instructor in a glider in preparation for the practical test that must have been performed within the preceding 2 calendar months from the month of the test.

(g) * * *

(3) Three hours of flight training with an authorized instructor in an airship in preparation for the practical test within the preceding 2 calendar months from the month of the test; and

* * * * *

(h) * * *

(1) * * *

(i) At least one training flight with an authorized instructor in a gas balloon in preparation for the practical test within the preceding 2 calendar months from the month of the test;

* * * * *

(2) * * *

(i) At least two training flights of 1 hour each with an authorized instructor in a balloon with an airborne heater in preparation for the practical test within the preceding 2 calendar months from the month of the test;

* * * * *

(i) * * *

(3) Three hours of flight training with an authorized instructor in a powered parachute in preparation for the practical test, which must have been performed within the preceding 2 calendar months from the month of the test; and

* * * * *

(j) * * *

(3) Three hours of flight training with an authorized instructor in a weight-shift-control aircraft in preparation for the practical test, which must have been performed within the preceding 2 calendar months from the month of the test; and

* * * * *

6. On page 42558, third column, revise amendatory instruction 34 and its amendments to § 61.129 to read as follows:

34. Amend § 61.129 by revising paragraphs (a)(3)(i), (a)(3)(iii), (a)(3)(iv), (a)(3)(v), (a)(4) introductory text, (b)(3)(i), (b)(3)(iii), (b)(3)(iv), (b)(3)(v), (c)(3)(i) through (iv), (c)(4) introductory text, (d)(3)(i) through (iv), (d)(4) introductory text, (e)(3)(i) through (iv), (e)(4) introductory text, (f)(1)(i), (f)(2)(i), (g)(2) introductory text, (g)(3), (g)(4)(i) through (iii), (h)(4)(i)(A), (h)(4)(ii)(A), and (i)(3) to read as follows:

§ 61.129 Aeronautical experience.

(a) * * *

(3) * * *

(i) Ten hours of instrument training using a view-limiting device including attitude instrument flying, partial panel skills, recovery from unusual flight attitudes, and intercepting and tracking navigational systems. Five hours of the 10 hours required on instrument training must be in a single engine airplane;

* * * * *

(iii) One 2-hour cross country flight in a single engine airplane in daytime conditions that consists of a total straight-line distance of more than 100 nautical miles from the original point of departure;

(iv) One 2-hour cross country flight in a single engine airplane in nighttime conditions that consists of a total straight-line distance of more than 100 nautical miles from the original point of departure; and

(v) Three hours in a single-engine airplane with an authorized instructor in preparation for the practical test within the preceding 2 calendar months from the month of the test.

(4) Ten hours of solo flight time in a single engine airplane or 10 hours of flight time performing the duties of pilot in command in a single engine airplane with an authorized instructor on board (either of which may be credited towards the flight time requirement under paragraph (a)(2) of this section), on the areas of operation listed under § 61.127(b)(1) that include—

* * * * *

(b) * * *

(3) * * *

(i) Ten hours of instrument training using a view-limiting device including attitude instrument flying, partial panel skills, recovery from unusual flight attitudes, and intercepting and tracking navigational systems. Five hours of the 10 hours required on instrument training must be in a multiengine airplane;

* * * * *

(iii) One 2-hour cross country flight in a multiengine airplane in daytime conditions that consists of a total straight-line distance of more than 100 nautical miles from the original point of departure;

(iv) One 2-hour cross country flight in a multiengine airplane in nighttime conditions that consists of a total straight-line distance of more than 100 nautical miles from the original point of departure; and

(v) Three hours in a multiengine airplane with an authorized instructor in preparation for the practical test within the preceding 2 calendar months from the month of the test.

(c) * * *

(3) * * *

(i) Five hours on the control and maneuvering of a helicopter solely by reference to instruments using a view-limiting device including attitude instrument flying, partial panel skills, recovery from unusual flight attitudes, and intercepting and tracking navigational systems. This aeronautical experience may be performed in an aircraft, flight simulator, flight training device, or an aviation training device;

(ii) One 2-hour cross country flight in a helicopter in daytime conditions that consists of a total straight-line distance of more than 50 nautical miles from the original point of departure;

(iii) One 2-hour cross country flight in a helicopter in nighttime conditions that consists of a total straight-line distance of more than 50 nautical miles from the original point of departure; and

(iv) Three hours in a helicopter with an authorized instructor in preparation for the practical test within the preceding 2 calendar months from the month of the test.

(4) Ten hours of solo flight time in a helicopter or 10 hours of flight time performing the duties of pilot in command in a helicopter with an authorized instructor on board (either of which may be credited towards the flight time requirement under paragraph (c)(2) of this section), on the areas of operation listed under § 61.127(b)(3) that includes—

* * * * *

(d) * * *

(3) * * *

(i) 2.5 hours on the control and maneuvering of a gyroplane solely by reference to instruments using a view-limiting device including attitude instrument flying, partial panel skills, recovery from unusual flight attitudes, and intercepting and tracking navigational systems. This aeronautical experience may be performed in an aircraft, flight simulator, flight training device, or an aviation training device;

(ii) One 2-hour cross country flight in a gyroplane in daytime conditions that consists of a total straight-line distance of more than 50 nautical miles from the original point of departure;

(iii) Two hours of flight training during nighttime conditions in a gyroplane at an airport, that includes 10 takeoffs and 10 landings to a full stop (with each landing involving a flight in the traffic pattern); and

(iv) Three hours in a gyroplane with an authorized instructor in preparation for the practical test within the preceding 2 calendar months from the month of the test.

(4) Ten hours of solo flight time in a gyroplane or 10 hours of flight time performing the duties of pilot in command in a gyroplane with an authorized instructor on board (either of which may be credited towards the flight time requirement under paragraph (d)(2) of this section), on the areas of operation listed in § 61.127(b)(4) that includes—

* * * * *

(e) * * *

(3) * * *

(i) Ten hours of instrument training using a view-limiting device including attitude instrument flying, partial panel skills, recovery from unusual flight attitudes, and intercepting and tracking navigational systems. Five hours of the 10 hours required on instrument training must be in a powered-lift;

(ii) One 2-hour cross country flight in a powered-lift in daytime conditions that consists of a total straight-line distance of more than 100 nautical miles from the original point of departure;

(iii) One 2-hour cross country flight in a powered-lift in nighttime conditions that consists of a total straight-line distance of more than 100 nautical miles from the original point of departure; and

(iv) 3 hours in a powered-lift with an authorized instructor in preparation for the practical test within the preceding 2 calendar months from the month of the test.

(4) Ten hours of solo flight time in a powered-lift or 10 hours of flight time performing the duties of pilot in command in a powered-lift with an authorized instructor on board (either of which may be credited towards the flight time requirement under paragraph (e)(2) of this section, on the areas of operation listed in § 61.127(b)(5) that includes—

* * * * *

(f) * * *

(1) * * *

(i) Three hours of flight training in a glider with an authorized instructor or 10 training flights in a glider with an authorized instructor on the areas of operation listed in § 61.127(b)(6) of this part, including at least 3 training flights in a glider with an authorized instructor in preparation for the practical test within the preceding 2 calendar months from the month of the test; and

* * * * *

(2) * * *

(i) Three hours of flight training in a glider or 10 training flights in a glider with an authorized instructor on the areas of operation listed in § 61.127(b)(6) of this part including at least 3 training flights in a glider with an authorized instructor in preparation for the practical test within the preceding 2 calendar months from the month of the test; and

* * * * *

(g) * * *

(2) Thirty hours of pilot in command flight time in airships or performing the duties of pilot in command in an airship with an authorized instructor aboard, which consists of—

* * * * *

(3) Forty hours of instrument time to include—

(i) Instrument training using a view-limiting device for attitude instrument flying, partial panel skills, recovery from unusual flight attitudes, and intercepting and tracking navigational systems; and

(ii) Twenty hours of instrument flight time, of which 10 hours must be in flight in airships.

(4) * * *

(i) Three hours in an airship with an authorized instructor in preparation for the practical test within the preceding 2 calendar months from the month of the test;

(ii) One hour cross country flight in an airship in daytime conditions that consists of a total straight-line distance of more than 25 nautical miles from the point of departure; and

(iii) One hour cross country flight in an airship in nighttime conditions that consists of a total straight-line distance of more than 25 nautical miles from the point of departure.

* * * * *

(h) * * *

(4) * * *

(i) * * *

(A) Two training flights of 2 hours each in a gas balloon with an authorized instructor in preparation for the practical test within the preceding 2 calendar months from the month of the test;

* * * * *

(ii) * * *

(A) Two training flights of 1 hour each in a balloon with an airborne heater with an authorized instructor in preparation for the practical test within the preceding 2 calendar months from the month of the test;

* * * * *

(i) * * *

(3) Except when fewer hours are approved by the FAA, an applicant for the commercial pilot certificate with the airplane or powered-lift rating who has completed 190 hours of aeronautical experience is considered to have met the total aeronautical experience requirements of this section, provided the applicant satisfactorily completed an approved commercial pilot course under part 142 of this chapter and the approved course was appropriate to the commercial pilot certificate and aircraft rating sought.

7. On page 42560, third column, in the amendment to § 61.157, revise paragraphs (f)(2)(ii) and (iii) to read as follows:

§ 61.157 Flight proficiency.

* * * * *

(f) * * *

(2) * * *

(ii) An Aircrew Program Designee who is authorized to perform proficiency and/or competency checks for the air carrier whose approved training program has been satisfactorily completed by the pilot applicant.

(iii) A Training Center Evaluator with appropriate certification authority who is also authorized to perform the portions of the competency and/or proficiency checks required by paragraph (f)(1) of this section for the air carrier whose approved training program has been satisfactorily completed by the pilot applicant.

* * * * *

8. On page 42562, third column, add new instruction 48a with an amendment to § 61.313 to read as follows:

48a. Amend § 61.313 by revising paragraphs (a)(1)(iv), (b)(1)(ii), (c)(1)(ii), (d)(1)(iv), (e)(1)(iv), (f)(1)(ii), (g)(1)(v), and (h)(1)(iv) to read as follows:

§ 61.313 What aeronautical experience must I have to apply for a sport pilot certificate?

* * * * *

If you are applying for a sport pilot certificate with * * * | Then you must log at least * * * | Which must include at least * * *
(a) * * * | (1) * * * | (iv) 3 hours of flight training with an authorized instructor on those areas of operation specified in § 61.311 in preparation for the practical test within the preceding 2 calendar months from the month of the test.
(b) * * * | (1) * * * | (ii) 3 hours of flight training with an authorized instructor on those areas of operation specified in § 61.311 in preparation for the practical test within the preceding 2 calendar months from the month of the test.
(c) * * * | (1) * * * | (ii) 3 hours of flight training with an authorized instructor on those areas of operation specified in § 61.311, in preparation for the practical test within the preceding 2 calendar months from the month of the test.
(d) * * * | (1) * * * | (iv) 3 hours of flight training with an authorized instructor on those areas of operation specified in § 61.311 in preparation for the practical test within the preceding 2 calendar months from the month of the test.
(e) * * * | (1) * * * | (iv) 3 hours of flight training with an authorized instructor on those areas of operation specified in § 61.311 in preparation for the practical test within the preceding 2 calendar months from the month of the test.
(f) * * * | (1) * * * | (ii) 3 hours of flight training with an authorized instructor on those areas of operation specified in § 61.311 in preparation for the practical test within the preceding 2 calendar months from the month of the test.
(g) * * * | (1) * * * | (v) 3 hours of flight training with an authorized instructor on those areas of operation specified in § 61.311 in preparation for the practical test within the preceding 2 calendar months from the month of the test.
(h) * * * | (1) * * * | (iv) 3 hours of flight training with an authorized instructor on those areas of operation specified in § 61.311 in preparation for the practical test within the preceding 2 calendar months from the month of the test.

Issued in Washington, DC, on October 15, 2009.
Pamela Hamilton-Powell,
Director, Office of Rulemaking.

[FR Doc. E9-25133 Filed 10-19-09; 8:45 am]

BILLING CODE 4910-13-P